ENVIRONMENTAL PROTECTION AGENCY

40 CFR Part 86

[FRL-7024-5]

RIN 2060-AG13

Control of Air Pollution From Motor Vehicles and New Motor Vehicle Engines; Revisions to Regulations Requiring Availability of Information for Use of On-Board Diagnostic Systems and Emission-Related Repairs on 1994 and Later Model Year Light-Duty Vehicles and Light-Duty Trucks and 2005 and Later Model Year Heavy-Duty Vehicles and Engines Weighing 14,000 Pounds Gross Vehicle Weight or Less

AGENCY: Environmental Protection Agency (EPA).

ACTION: Proposed rule; extension of comment period.

SUMMARY: The U.S. Environmental Protection Agency is revising the public comment period on the Service Information Availability Notice of Proposed Rulemaking (NPRM) which was published in the Federal Register on June 8, 2001 (66 FR 30830). The NPRM dealt with the use of on-board diagnostic systems and emission-related repairs on light-duty vehicles and trucks and heavy-duty vehicles and engines. The public comment period was to end on August 7, 2001. The purpose of this document is to provide an additional 20 days to the comment period, which will end on August 27, 2001. This extension of the comment period is provided to provide the public with 30 days following the public hearing, which is scheduled for July 25, 2001, to comment on this NPRM.

DATES: EPA will accept public comments until August 27, 2001.

ADDRESSES: Comments must be submitted to Holly Pugliese, Certification and Compliance Division, U.S. Environmental Protection Agency, 2000 Traverwood, Ann Arbor, Michigan 48105.

Materials relevant to this rulemaking are contained in EPA Air Docket No.A-2000-49. The docket is located at The Air Docket, 401 M. Street, SW., Washington, DC 20460, and may be viewed in room M1500 between 8 a.m. and 5:30 p.m., Monday through Friday. The telephone number is (202) 260-7548 and the facsimile number is (202) 260-4400. A reasonable fee may be charged by EPA for copying docket material.

FOR FURTHER INFORMATION CONTACT: Holly Pugliese, Certification and Compliance Division, U.S. Environmental Protection Agency, 2000 Traverwood, Ann Arbor, Michigan 48105. Telephone 734-214-4288; Fax 734-214-4053; e-mail pugliese.holly@epa.gov.

Dated: July 31, 2001.
Robert D. Brenner,
Acting Assistant Administrator, Office of Air and Radiation.

[FR Doc. 01-19567 Filed 8-3-01; 8:45 am]

BILLING CODE 6560-50-P